DEPARTMENT OF TRANSPORTATION

Federal Aviation Administration

[Policy Statement No. ANE-2002-33.15-R0]

Policy for 14 CFR Section 33.15, Materials

AGENCY: Federal Aviation Administration, DOT.

ACTION: Notice of availability; policy statement.

SUMMARY: The Federal Aviation Administration (FAA) announces the availability of policy for 14 CFR 33.15, Materials.

DATES: The FAA issued policy statement number ANE-2002-33.15-R0 on January 21, 2004.

FOR FURTHER INFORMATION CONTACT: Tim Mouzakis, FAA, Engine and Propeller Standards Staff, ANE-110, 12 New England Executive Park, Burlington, MA 01803; e-mail: timoleon.mouzakis@faa.gov; telephone: (781) 238-7114; fax: (781) 238-7199. The policy statement is available on the Internet at the following address: http://www.airweb.faa.gov/rgl. If you do not have access to the Internet, you may request a copy of the policy by contacting the individual listed in this section.

SUPPLEMENTARY INFORMATION: The FAA published a notice in the Federal Register on June 16, 2003 (68 FR 35770) to announce the availability of the proposed policy and invite interested parties to comment.

Background

The FAA, in cooperation with industry, has developed a multi-faceted strategy to improve the safety of high-energy rotors. This strategy includes improving the ultrasonic (UT) billet inspection of titanium (Ti) alloys used in fan disks and other critical rotating engine hardware. This policy establishes minimum safety standards for the UT billet inspection of Ti material used in the manufacturing of engine rotating components. This policy does not create any new requirements.

Authority: 49 U.S.C. 106(g), 40113, 44701-44702, 44704.

Issued in Burlington, Massachusetts, on January 21, 2004.
Francis A. Favara,
Acting Manager, Engine and Propeller Directorate, Aircraft Certification Service.

[FR Doc. 04-2200 Filed 2-2-04; 8:45 am]

BILLING CODE 4910-13-M